NATIONAL ARCHIVES AND RECORDS ADMINISTRATION

Office of Government Information Services

[NARA-2020-065]

Chief Freedom of Information Act (FOIA) Officers Council; Notice of a Meeting

AGENCY: Office of Government Information Services (OGIS), National Archives and Records Administration (NARA), and Office of Information Policy (OIP), U.S. Department of Justice (DOJ).

ACTION: Notice of meeting.

SUMMARY: We are announcing 2020's annual meeting of the Chief Freedom of Information Act (FOIA) Officers Council, co-chaired by the Director of OGIS and the Director of OIP.

DATES: The meeting will be on Wednesday, October 14, 2020, from 10 a.m. to 12:30 p.m. EDT. Please register for the meeting no later than 11:59 p.m. EDT on Monday, October 12, 2020 (registration information is detailed below).

Location: The October 14, 2020, meeting will be a virtual meeting. We will send access instructions to those who register according to the instructions below.

FOR FURTHER INFORMATION CONTACT: Martha Murphy by email at ogis@nara.gov with the subject line “Chief FOIA Officers Council” or by telephone at 202.741.5770.

SUPPLEMENTARY INFORMATION: This meeting is open to the public in accordance with the Freedom of Information Act (5 U.S.C. 552(k)). Additional details about the meeting will be available on OGIS's website at https://www.archives.gov/ogis/about-ogis/chief-foia-officers-council and OIP's website at https://www.justice.gov/oip/chief-foia-officers-council.

Procedures: This virtual meeting is open to the public. You must register through Eventbrite in advance if you wish to attend and/or submit oral statements. You must also include an email address so that we can provide you access information. To request accommodations (e.g., a transcript), email ogis@nara.gov or call 202.741.5770. Members of the media who wish to register, those who are unable to register online, and those who require special accommodations, should contact Martha Murphy (contact information listed above).

Maureen McDonald,
Designated Committee Management Officer.

[FR Doc. 2020-21373 Filed 9-25-20; 8:45 am]

BILLING CODE 7515-01-P